DEPARTMENT OF HEALTH AND HUMAN SERVICES

Centers for Disease Control and Prevention

[60Day—23-23CA; Docket No. CDC-2023-0002]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Vector Surveillance and Control Assessment: Post-Zika Response and Tick Capacities. This study is designed to determine the vector control capabilities of local jurisdictions within the District of Columbia, territories, and 50 states that responded to Zika virus (ZIKV) outbreaks.

DATES: CDC must receive written comments on or before March 20, 2023.

ADDRESSES: You may submit comments, identified by Docket No. CDC-2023-0002 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Vector Surveillance and Control Assessment: Post-Zika Response and Tick Capacities—New—National Center for Emerging and Zoonotic Infectious Diseases (NCEZID), Centers for Disease Control and Prevention (CDC).

Background and Brief Description

Vector borne diseases (VBD) like West Nile Virus (WNV) and Zika virus infection (ZIKV), as well as Lyme disease, have become a public health concern in the United States. CDC expects that the number of vector-borne disease cases in the United States will likely increase and that the pathogens have the potential to spread locally, particularly if vector control measures are not taken. Currently, there is limited information available regarding the abilities of local vector control organizations to prepare for and respond to VBDs. To provide these organizations with the most useful and beneficial information and resources, the National Association of County and City Health Officials (NACCHO) and CDC must first determine what gaps and limitations still exist specific to these vector control capabilities.

CDC and NACCHO have developed a Mosquito Control Program Questionnaire with additional tick inquiries to collect information about the capabilities of local vector control organizations. The information collected during this study will provide jurisdictions with their current status (ranging from `needs improvement' to `fully capable') related to various vector control activities. This will enable respondents to focus future efforts and initiatives on observed areas for improvement. This study will utilize an electronic assessment that will be distributed to 1,664 local vector control departments and districts. Information collected in this study will be self-reported. The data will be analyzed using descriptive statistics and subgroup analyses.

CDC requests OMB approval for an estimated 250 annual burden hours. There is no cost to respondents other than their time to participate.

Estimated Annualized Burden Hours
Type of respondents | Form name | Number of respondents | Number of responses per respondent | Average burden per response (in hours) | Total burden (in hours)
Environmental Science and Protection Technicians, including Health | Vector Control Program Questionnaire | 1664 | 1 | 9/60 | 250
Total |  |  |  |  | 250

Jeffrey M. Zirger,
Lead, Information Collection Review Office, Office of Scientific Integrity, Office of Science, Centers for Disease Control and Prevention.

[FR Doc. 2023-00809 Filed 1-17-23; 8:45 am]

BILLING CODE 4163-18-P